SMALL BUSINESS ADMINISTRATION

Annual Meeting of the Regional Small Business Regulatory Fairness Boards

AGENCY: Office of the National Ombudsman, U.S. Small Business Administration (SBA).

ACTION: Notice of open meeting of the Regional Small Business Regulatory Fairness Boards.

SUMMARY: The SBA, Office of the National Ombudsman, is issuing this notice to announce the location, date, time and agenda for the annual board meeting of the ten Regional Small Business Regulatory Fairness Boards. The meeting is open to the public.

DATES: The meeting will be held on Thursday, September 28, 2023, from 9:30 a.m. to 4 p.m. EDT, and Friday, September 29, 2023, from 9:30 a.m. to 4 p.m. EDT.

ADDRESSES: The meeting will be held virtually through Microsoft Teams.

FOR FURTHER INFORMATION CONTACT: The meeting is open to the public; however advance notice of attendance is requested. Anyone wishing to attend must contact John Kelly, Case Management Specialist, by September 21, 2023. If you need accommodations because of a disability, translation services, or require additional information, please contact John Kelly, by phone (888) 734-3247, by fax (202) 481-5719 or email ombudsman@sba.gov.

For more information on the Office of the National Ombudsman, please visit our website at www.sba.gov/ombudsman.

SUPPLEMENTARY INFORMATION: Pursuant to the Small Business Regulatory Enforcement Fairness Act (Pub. L. 104-121), sec. 222, SBA announces the meeting of the Regional Small Business Regulatory Fairness Boards (Regional Regulatory Fairness Boards). The Regional Regulatory Fairness Boards are tasked to advise the National Ombudsman on matters of concern to small businesses relating to enforcement activities of agencies and to report on substantiated instances of excessive enforcement actions against small business concerns, including any findings or recommendations of the Board as to agency enforcement practice or policy.

The purpose of the meeting is to discuss the following topics related to the Regional Regulatory Fairness Boards:

—Introduction of the Regional Regulatory Fairness Boards and the staff of the Office of the National Ombudsman

—Facilitated discussion of ongoing regulatory issues for small business

—Annual Report to Congress Update

—Office of Advocacy regulatory review

—SBA update and future outreach planning

Dated: September 13, 2023.
Andrienne Johnson,
SBA Committee Management Officer.

[FR Doc. 2023-20166 Filed 9-18-23; 8:45 am]

BILLING CODE 8026-09-P